DEPARTMENT OF COMMERCE

Foreign-Trade Zones Board

[Docket 23-2000]

Foreign-Trade Zone 78, Nashville, Tennessee Application for Expansion and Request for Manufacturing Authority (Personal Computers)

An application has been submitted to the Foreign-Trade Zones Board (the Board) by the Metropolitan Government of Nashville and Davidson County, grantee of FTZ 78, requesting authority to expand its zone in the Nashville, Tennessee area, and requesting, on behalf of Dell Computer Corporation (Dell), authority to manufacture personal computers under zone procedures within FTZ 78 (Nashville Customs port of entry). The application was submitted pursuant to the provisions of the Foreign-Trade Zones Act, as amended, (19 U.S.C. 81a-81u), and the regulations of the Board (15 CFR Part 400). It was formally filed on June 1, 2000.

FTZ 78 was approved on March 2, 1982 (Board Order 190, 47 FR 16191, 4/15/82) and expanded on February 18, 1999 (Board Order 1024, 64 FR 9472, 2/26/99). The zone currently consists of five sites in the Nashville, Tennessee area:

Site 1—(52,000 square feet) within a 200,000 square foot warehouse located at 750 Cowan Street, Nashville;

Site 2—(63 acres) within the 2,000-acre Cockrill Bend industrial park, Nashville;

Site 3—(275,000 square feet) within a 400,000 square foot warehouse located at 323 Mason Road, La Vergne, Tennessee;

Site 4—(39 acres) Space Park North Industrial Park, 1000 Cartwright Street, Goodlettsville, Tennessee; and

Site 5—(19 acres) Old Stone Bridge Industrial Park, Old Stone Bridge, Goodlettsville.

The applicant is now requesting authority to expand the FTZ to include two additional sites:

Site 6—“Airport Site,” to include 806 acres located in Nashville at Nashville International Airport, One Terminal Drive, Nashville. The Airport Site involves an industrial-park type of facility that will include manufacturing, distribution, and logistics facilities for Dell and warehousing and logistics facilities for other parties requiring FTZ procedures at the airport, particularly involving air freight; and

Site 7—“Eastgate Site,” at 3850 Eastgate Boulevard, Lebanon, Tennessee. This site is in the Eastgate Business Park, off Interstate 40, twelve miles east of Nashville International Airport. The site contains 38 acres with one 300,000 square foot building currently occupied by Dell—the remainder of the site will be available for other users.

The application also requests authority on behalf of Dell to manufacture personal computers, including servers and workstations, within FTZ 78 (within the proposed expansion sites). Dell is already authorized to manufacture such computers under zone procedures within Foreign Trade Zone 183 and Subzone 183A. This proposal requests the same scope of manufacturing authority under FTZ procedures in terms of products or components as requested in Dell's previous applications, and involves an increase in the overall level of production under FTZ procedures for Dell.

The specific finished products for which Dell seeks authority to produce under FTZ procedures are various types of computers (desktop and notebook computers, workstations, and network servers) and data storage products. All of these products fall into HTSUS classifications which are duty free. The imported components for which Dell is seeking inverted tariff benefits include: plastic and rubber components; cloth tape; metal screws, clamps, washers, clips, and springs; locks and keys; fans; adapters and battery chargers; magnets; batteries; microphones; speakers; surge protectors; switches; sockets and plugs; cables, connectors, and power cords; “populated” printed circuit boards; and leather carrying cases. Duty rates on these items range up to 6.2% ad valorem.

In accordance with the Board's regulations, a member of the FTZ Staff has been designated examiner to investigate the application and report to the Board.

Public comment on the application is invited from interested parties. Submissions (original and three copies) shall be addressed to the Board's Executive Secretary at the address below. The closing period for their receipt is August 11, 2000. Rebuttal comments in response to material submitted during the foregoing period may be submitted during the subsequent 15-day period to August 28, 2000.

A copy of the application and the accompanying exhibits will be available for public inspection at each of the following locations:

Office of the Executive Secretary, Foreign-Trade Zones Board, U.S. Department of Commerce, Room 4008, 14th and Pennsylvania Avenue, N.W., Washington, DC 20230.

Nashville Export Assistance Center, 211 Commerce Ave, Suite 100, Nashville, TN 37201.

Dated: June 1, 2000.
Dennis Puccinelli,
Acting Executive Secretary.

[FR Doc. 00-14797 Filed 6-9-00; 8:45 am]

BILLING CODE 3510-DS-P